DEPARTMENT OF ENERGY

Federal Energy Regulatory Commission

[Docket Nos. ER00-2268-003, ER00-2268-005, ER00-2268-006, ER00-2268-007, ER00-2268-008, ER00-2268-010, ER00-2268-012, ER00-2268-013, ER00-2268-015, EL05-10-002, EL05-10-004, EL05-10-006, ER99-4124-001, ER99-4124-003, ER99-4124-004, ER99-4124-005, ER99-4124-006, ER99-4124-008, ER99-4124-010, ER99-4124-011, ER99-4124-013, EL05-11-002, EL05-11-004, EL05-11-006, ER00-3312-002, ER00-3312-004, ER00-3312-005, ER00-3312-006, ER00-3312-007, ER00-3312-009, ER00-3312-011, ER00-3312-012, ER00-3312-014, EL05-12-002, EL05-12-004, EL05-12-006, ER99-4122-004, ER99-4122-006, ER99-4122-007, ER99-4122-008, ER99-4122-009, ER99-4122-011, ER99-4122-013, ER99-4122-014, ER99-4122-016, EL05-13-002, EL05-13-004, and EL05-13-006]

Pinnacle West Capital Corporation, Arizona Public Service Company, Pinnacle West Energy Corporation, APS Energy Services Company, Inc.; Notice of Technical Conference

June 28, 2006.

As announced in an order issued on June 2, 2006, the Commission staff will hold a technical conference to address mitigation issues in these proceedings.¹ This technical conference will be held on July 10, 2006, in the Commission Meeting room at the Federal Energy Regulatory Commission, 888 First Street, NE., Washington, DC, from approximately 8:30 a.m. until approximately 5 p.m. (e.s.t.).

¹ Pinnacle West Capital Corp., 115 FERC ¶ 61,292 (2006).

Federal Energy Regulatory Commission conferences are accessible under section 508 of the Rehabilitation Act of 1973. For accessibility accommodations please send an e-mail to accessibility@ferc.gov or call toll free (866) 208-3372 (voice) or 202-208-1659 (TTY), or send a fax to 202-208-2106 with the required accommodations.

All interested parties and staff are permitted to attend the technical conference. For additional information regarding the meeting, please contact Cynthia Henry at Cynthia.Henry@ferc.gov no later than noon (EST) Friday, July 7, 2006.

Magalie R. Salas,
Secretary.

[FR Doc. E6-10617 Filed 7-6-06; 8:45 am]

BILLING CODE 6717-01-P